DEPARTMENT OF ENERGY

Federal Energy Regulatory Commission

[Docket No. CP17-3-000]

Dominion Carolina Gas Transmission, LLC; Notice of Schedule for Environmental Review of the Line A Abandonment Project

On October 13, 2016, Dominion Carolina Gas Transmission, LLC (Dominion Carolina) filed an application in Docket No. CP17-003-000 requesting a Certificate of Public Convenience and Necessity pursuant to Section 7(b) and 7(c) of the Natural Gas Act and Part 157 of the Commission's regulations to discontinue natural gas service and abandon natural gas pipelines and aboveground facilities in York, Chester, Lancaster, and Kershaw Counties, South Carolina. Dominion Carolina's proposed abandonment is referred to as the Line A Abandonment Project (Project).

On October 25, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA | June 30, 2017.
90-day Federal Authorization Decision Deadline | September 28, 2017.

If a schedule change becomes necessary, additional notice will be provided so that the relevant agencies are kept informed of the Project's progress.

Project Description

Dominion Carolina's Line A was originally installed in 1958 and now has integrity issues. The underground pipeline would be capped, filled with nitrogen, and abandoned in place. The pipeline to be abandoned includes 55 miles of 10-inch-diameter pipeline in York, Chester, Lancaster, and Kershaw Counties and 5 miles of 12-inch-diameter pipeline in York County. In addition three farm taps would be removed and aboveground facilities (including valves, regulators, or meters) would be removed at seven existing meter stations.

Dominion Carolina would also install new taps, piping, meters, and regulators at 12 existing meter stations in order to transfer the current feeds off of Line A into the its Line A-1-A pipeline.

Background

On February 7, 2017, the Commission issued a Notice of Intent to Prepare an Environmental Assessment for the Proposed Line A Abandonment Project and Request for Comments on Environmental Issues (NOI). The NOI was sent to affected landowners; federal, state, and local government agencies; elected officials; environmental and public interest groups; Native American tribes; other interested parties; and local libraries and newspapers. In response to the NOI, the Commission received comments from the Muscogee Nation, the Choctaw Nation of Oklahoma, the Eastern Band of the Cherokee Indians Tribal Historic Preservation Office, and a landowner. The comments primarily concerned cultural resources.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP17-3), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: May 5, 2017.
Kimberly D. Bose,
Secretary.

[FR Doc. 2017-09623 Filed 5-11-17; 8:45 am]

BILLING CODE 6717-01-P